DEPARTMENT OF ENERGY

Federal Energy Regulatory Commission

[Docket No. OR14-4-000]

Guttman Energy, Inc., PBF Holding Company LLC v. Buckeye Pipe Line Company, L.P., Laurel Pipe Line Company, L.P.; Notice of Complaint

Take notice that on October 15, 2013, Guttman Energy, Inc. and PBF Holding Company LLC (Complainants) submitted for filing with the Federal Energy Regulatory Commission (Commission) a complaint against Buckeye Pipe Line Company L.P. and Laurel Pipe Line Company L.P. (Respondents) challenging the rates charged by the Respondents for pipeline transportation of petroleum products from Chelsea Junction, Pennsylvania, to delivery points in Pennsylvania on the grounds that (1) the Respondents are unlawfully charging interstate tariff rates for intrastate transportation, (2) the pertinent interstate rates are excessive, unjust and unreasonable, (3) the pertinent market-based rates of Buckeye are no longer justified because, as a result of changed circumstances, Buckeye does not, in fact, lack significant market power, and (4) the Respondents' collection of interstate rates which are higher than intrastate rates for the same service is unduly and unreasonably preferential and discriminatory, all in violation of the Interstate Commerce Act.

The Complainants state that copies of the complaint were served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 4, 2013.

Dated: October 15, 2013.
Kimberly D. Bose,
Secretary.

[FR Doc. 2013-24527 Filed 10-21-13; 8:45 am]

BILLING CODE 6717-01-P